DEPARTMENT OF COMMERCE

International Trade Administration

[A-570-884]

Certain Color Television Receivers From the People's Republic of China: Final Results of Sunset Review and Revocation of Order

AGENCY: Import Administration, International Trade Administration, Department of Commerce.

SUMMARY: On May 1, 2009, the Department of Commerce (“Department”) initiated the sunset review of the antidumping duty order on certain color television receivers from the People's Republic of China (“PRC”). Because the domestic interested parties did not participate in this sunset review, the Department is revoking this antidumping duty order.

EFFECTIVE DATE: June 3, 2009

FOR FURTHER INFORMATION CONTACT: Zhulieta Willbrand, AD/CVD Operations, Office 4, Import Administration, International Trade Administration, U.S. Department of Commerce, 14th Street and Constitution Avenue, N.W., Washington, DC 20230; telephone: (202) 482-3147.

SUPPLEMENTARY INFORMATION:

Background

On June 3, 2004, the Department issued an antidumping duty order on imports of certain color television receivers from the PRC, which was amended on June 25, 2004. See Antidumping Duty Order: Certain Color Television Receivers From the People's Republic of China, 69 FR 31347 (June 3, 2004); see also, Notice of Amended Antidumping Duty Order: Certain Color Television Receivers from the People's Republic of China, 69 FR 35583 (June 25, 2004). On May 1, 2009, the Department initiated a sunset review on this order. See Initiation of Five-year (“Sunset”) Review, 74 FR 20286, 20287 (May 1, 2009).

We did not receive from domestic interested parties a notice of intent to participate in the sunset review. See 19 CFR 351.218(d)(1)(i). As a result, the Department determined that no domestic interested party intends to participate in the sunset review, and on May 22, 2009, we notified the International Trade Commission, in writing, that we intended to issue a final determination revoking this antidumping duty order. See 19 CFR 351.218(d)(1)(iii)(A) - (B).

Scope of the Order

For purposes of the order, the term “certain color television receivers” includes complete and incomplete direct view or projection type cathode ray tube color television receivers, with a video display diagonal exceeding 52 centimeters, whether or not combined with video recording or reproducing apparatus, which are capable of receiving a broadcast television signal and producing a video image. Specifically excluded from the order are computer monitors or other video display devices that are not capable of receiving a broadcast television signal. The color television receivers subject to the order are currently classifiable under subheadings 8528.12.2800, 8528.12.3250, 8528.12.3290, 8528.12.4000, 8528.12.5600, 8528.12.3600, 8528.12.4400, 8528.12.4800, and 8528.12.5200 of the Harmonized Tariff Schedule of the United States (“HTSUS”). Although the above HTSUS subheadings are provided for convenience and customs purposes, the written description of the merchandise under the order is dispositive.

Determination to Revoke

Pursuant to section 751(c)(3)(A) of the Tariff Act of 1930, as amended (“the Act”), and 19 CFR 351.218(d)(1)(iii)(B)(3), if no domestic interested party files a notice of intent to participate, the Department shall, within 90 days after the initiation of the review, issue a final determination revoking the order. Because the domestic interested parties did not file a notice of intent to participate in this sunset review, the Department finds that no domestic interested party is participating in this sunset review. See 19 C.F.R. § 351.218(d)(1)(iii)(B)(1). Therefore, consistent with 19 CFR 351.222(i), we are revoking this antidumping duty order. The effective date of revocation is June 3, 2009, the fifth anniversary of the date the Department published the antidumping duty order.

Effective Date of Revocation

Pursuant to sections 751(c)(3)(A) of the Act and 19 CFR 351.222(i)(2)(i), the Department will instruct U.S. Customs and Border Protection to terminate the suspension of liquidation of the merchandise subject to this order entered, or withdrawn from warehouse, on or after June 3, 2009. Entries of subject merchandise prior to the effective date of revocation will continue to be subject to suspension of liquidation and antidumping duty deposit requirements. The Department will complete any pending administrative reviews of this order and will conduct administrative reviews of subject merchandise entered prior to the effective date of revocation in response to appropriately filed requests for review.

This notice of final results of five-year (sunset) review and revocation is published in accordance with sections 751(c) and 777(i)(1) of the Act.

Dated: June 25, 2009.
Ronald K. Lorentzen,
Acting Assistant Secretary for Import Administration.

[FR Doc. E9-15598 Filed 6-30-09; 8:45 am]

BILLING CODE 3510-DS-S